DEPARTMENT OF THE INTERIOR

National Park Service

[NPS-PWR-PWRO-0105-9223; 9082-P704-409]

Environmental Impact Statement for Proposed General Management Plan, Pinnacles National Monument, San Benito and Monterey Counties, CA

AGENCY: National Park Service, Interior.

ACTION: Notice of Termination of Environmental Impact Statement.

SUMMARY: The National Park Service is terminating the preparation of an Environmental Impact Statement (EIS) for the General Management Plan, Pinnacles National Monument, California. A Notice of Intent to prepare an EIS for the General Management Plan (GMP) was published in the Federal Register on April 6, 2007. Based in part on the minimal nature of public response to the Notice of Intent, the National Park Service has since determined that an Environmental Assessment (EA) rather than an EIS will suffice as the documentation for the environmental analysis for this general management planning effort.

SUPPLEMENTARY INFORMATION: This new GMP will update the overall direction for the national monument, setting broad goals for managing the area over the next 15 to 20 years. As noted above, the GMP was originally scoped as an EIS. However, few substantive comments were received during the public scoping process, and no issues having potential for significant or controversial impacts were identified. The current Master Plan was approved in 1975.

In the general management planning process to date, the NPS planning team developed four preliminary alternatives for the management of the monument, none of which would result in substantial changes in the operation and management of the area. The three “action” alternatives define desired future conditions for new lands recently acquired, and address parkwide cultural and natural resource protection, wilderness stewardship, administration and operations, and opportunities for expanding interpretation and visitor opportunities where appropriate. Preliminary analysis of the alternatives has revealed no potential for major (nor significant) effects on the quality of the human environment, nor any potential for impairment of monument resources and values. Most of the impacts which could result from the alternatives are expected to be negligible to minor in magnitude, with the remainder being of a minor to moderate level.

For these reasons the NPS has determined that the requisite conservation planning and environmental impact analysis necessary for developing the GMP may be completed through preparation of an EA. For further information about this determination or other aspects of the GMP process, please contact: Karen Beppler-Dorn, Superintendent, Pinnacles National Monument, 5000 Highway 146, Paicines, CA 95043 (telephone: (831) 389-4486x222; email: PINN_Superintendent@nps.gov).

Decision Process: The draft general management plan/EA is expected to be distributed for public comment in the spring of 2012. The NPS will notify the public about release of the draft general management plan/EA by mail, local and regional media, Web site postings, and other means. All announcements will include information on where and how to obtain a copy of the EA, how to comment on the EA, and the inclusive dates of the public comment period. Following due consideration of public comments and agency consults, at this time a decision is expected be made in the fall of 2012. The official responsible for the final decision on the GMP is the Regional Director; subsequently the responsible official for implementing the approved GMP is the Superintendent, Pinnacles National Monument.

Dated: February 28, 2012.
Christine S. Lehnertz,
Acting Regional Director, Pacific West Region.

[FR Doc. 2012-5852 Filed 3-9-12; 8:45 am]

BILLING CODE 4312-EP-P